DEPARTMENT OF ENERGY

Federal Energy Regulatory Commission

[Docket No. RP00-264-001]

Northern Natural Gas Company; Notice of Compliance Filing

November 28, 2000.

Take notice that on November 22, 2000, Northern Natural Gas Company (Northern), tendered for filing as part of its FERC Gas Tariff, Fifth Revised Volume No. 1, the following tariff sheets, proposed to be effective on November 1, 2000.

Substitute Fifth Revised Sheet No. 1,

Substitute Sixth Revised Sheet No. 2,

Substitute 49 Revised Sheet No. 53,

Substitute First Revised Sheet No. 56,

Substitute Fourth Revised Sheet No. 143,

Substitute Ninth Revised Sheet No. 144,

Substitute Third Revised Sheet No. 145,

Substitute First Revised Sheet No. 158,

Substitute Original Sheet No. 162,

Substitute Original Sheet No. 163,

Substitute Original Sheet No. 164,

Substitute Sixth Revised Sheet No. 206,

Substitute Fifth Revised Sheet No. 220,

Substitute Second Revised Sheet No. 251,

Substitute Fourth Revised Sheet No. 252,

Substitute Third Revised Sheet No. 261,

Substitute Sixth Revised Sheet No. 263A,

Substitute Sixth Revised Sheet No. 265,

Substitute Second Revised Sheet No. 271,

Substitute Fifth Revised Sheet No. 288,

Substitute Third Revised Sheet No. 289,

Substitute Third Revised Sheet No. 290,

Substitute Fourth Revised Sheet No. 300,

Substitute Fourth Revised Sheet No. 302,

Substitute Original Sheet No. 462.

In addition, Northern hereby submits for filing as part of its F.E.R.C. Gas Tariff, Fifth Revised Volume No. 1, 1 Revised Third Revised Sheet No. 220 proposed to be effective October 11, 2000.

Northern states that the purpose of this filing is to comply with the Commission's Order issued on November 8, 2000 in Docket RP00-264-000. Northern is filing the revised tariff sheets to reflect the use of a five-year base period to determine VFT Shippers' load factors. In addition, Northern is filing revised tariff sheets to delete any references to LFT, to correct sheet pagination, and to file actual sheets for previously file pro forma tariff sheets.

Northern further states that copies of the filing have been mailed to each of its customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30725 Filed 12-1-00; 8:45 am]

BILLING CODE 6717-01-M